DEPARTMENT OF TRANSPORTATION

Federal Highway Administration

Environmental Impact Statement; Humboldt County, CA

AGENCY: Federal Highway Administration (FHWA), DOT.

ACTION: Notice of Intent.

SUMMARY: The FHWA is republishing this notice to advise the public that an Environmental Impact Statement (EIS) will be prepared for the proposed highway project along U.S. Highway (Highway) 101 in Humboldt County, in the Cities of Eureka and Arcata, and the unincorporated area between the two cities, California. The original Notice of Intent (NOI) was published in the Federal Register on August 31, 2001, (Volume 66, Number 170, Pages 46061 & 46062). The NOI is being republished due to project changes of adding roadway rehabilitation work and new alternatives to the proposed project.

FOR FURTHER INFORMATION CONTACT: Leland Dong, Team Leader—North Region, Federal Highway Administration, 650 Capitol Mall, Suite 4-100, Sacramento, CA 95814-4708, telephone (916) 498-5860 or Kim Floyd, California Department of Transportation Project Manager, P.O. Box 3700, Eureka, CA 95502-3700, telephone (707) 441-5739.

SUPPLEMENTARY INFORMATION: U.S. Highway 101 is part of the National Highway System and is a principal arterial route. The route is often referred to as the “lifeline of the North Coast” since it is the California north coast's most important interregional route, serving as the connector to the Santa Rosa/San Francisco metropolitan areas to the south and the State of Oregon to the north. It is heavily used for the transportation of intercity/intestate commerce as well as being the principal route to many north coast recreational areas including State and National parks, rivers, ocean fishing, and beach areas. North of San Francisco, it is the second most heavily traveled non-freeway segment on Highway 101 within California.

The proposed project limits extend from just north of the Eureka Slough Bridge in the City of Eureka to the 11th Street over crossing in the City of Arcata along the Highway 101 corridor from KP 128.6 to KP 138.9 (PM 79.9 to PM 86.3) in Humboldt County. The existing Highway 101 corridor within these limits consists of two one-way arterials, a four-lane expressway, and a four-lane freeway.

The proposed Eureka-Arcata Corridor Improvement Project consists of the following:

• Realign and signalize Airport Road/Highway 101,

• Realign the intersection of Jacobs Road with Airport Road,

• Construct a third northbound lane from Cole Avenue to Mid City Motors,

• Close median crossings and acceleration and deceleration lanes (remove existing pavement) at Mid City Motors, Green Diamond sawmill, Bracut, and Bayside Cutoff,

• Construct a compact diamond interchange at Indianola Cutoff,

• Extend existing right side acceleration and deceleration lanes,

• Reconstruct access ramps at existing Highway 101/Route 255 Interchange,

• Pave median and install concrete barrier from South G Street to 11th Street in Arcata,

• Replace southbound Jacoby Creek Bridge,

• Widen northbound Jacoby Creek and Gannon Slough bridges for standard shoulder widths and upgraded bridge rails,

• Provide minor shoulder widening,

• Place shoulder backing material,

• Overlay pavement with asphalt concrete (AC) with open graded AC surfacing,

• Install thrie-beam median barrier from Eureka Slough Bridge to Airport Road,

• Install upgraded lighting,

• Replace tide gates and,

• Remove all trees not currently protected by barrier, within nine meters (30-feet) of the Highway 101 edge of traveled way (white pavement stripes) within the project limits.

Letters describing the proposed action and soliciting comments will be sent to appropriate Federal, State, and local agencies, and to private organizations and citizens who have previously expressed or are known to have an interest in this proposal.

To ensure that the full range of issues related to this proposed action are addressed and all significant issues identified, comments and suggestions are invited from all interested parties. The views of agencies, which may have knowledge about historic resources potentially affected by the proposal or interest in the effects of the proposal on historic properties, are specifically solicited. Comments or questions concerning this proposed action and the EIS should be directed to the FHWA at the address previously provided in this notice:

(Catalog of Federal Domestic Assistance Program Number 20.205, Highway Research, Planning and Construction. The regulations implementing Executive Order 12372 regarding intergovernmental consultation Federal programs and activities apply to this program)

Issued on: May 18, 2006.
Leland W. Dong,
Project Development Engineer, California Division, Federal Highway Administration.

[FR Doc. 06-4876 Filed 6-25-05; 8:45am]

BILLING CODE 4910-22-M